DEPARTMENT OF JUSTICE

Notice of Proposed Consent Decree Under the Clean Water Act, the Comprehensive Environmental Response, Compensation and Liability Act, and the Emergency Planning and Community Right-To-Know Act

Notice is hereby given that on March 9, 2011, a proposed Consent Decree in United States of American and State of Alaska v. Unisea, Incorporated, Civil Action No. 3:11-cv-00037-JWS, was lodged with the United States District Court for the District of Alaska.

The proposed Consent Decree will settle the United States' claims on behalf of the U.S. Environmental Protection Agency (“EPA”) for violations of the Clean Water Act, the Comprehensive Environmental Response, Compensation and Liability Act, and the Emergency Planning and Community Right-to-Know Act alleged in the Complaint in the lawsuit mentioned above. The claims arose from discharges of ammonia and other pollutants from Unisea's facility in Unalaska. The Consent Decree also will settle certain claims of the State of Alaska.

The Consent Decree resolves the United States claims alleged in the Complaint in return for payment by Unisea of civil penalties totaling $1,405,250 to the United States, and performance by Unisea of injunctive relief specified in the Consent Decree. (Unisea will also pay a $504,125 civil assessment to the State of Alaska.)

The Department of Justice will receive comments relating to the proposed Consent Decree for a period of 30 days from the date of this publication. Comments on the Consent Decree should be addressed to the Assistant Attorney General, Environment and Natural Resources Division, and either e-mailed to pubcomment-ees.enrd@usdoj.gov or mailed to P.O. Box 7611, U.S. Department of Justice, Washington, DC 20044-7611, and should refer to United States and Alaska v. Unisea, Inc., Civil Action No. 3:11-cv-00037-JWS (D. Alaska), D.J. Ref. No. 90-5-1-1-10121.

The proposed Consent Decree may be examined at the Office of the United States Attorney, District of Alaska, Federal Building & U.S. Courthouse, 222 W. 7th Avenue, Anchorage, Alaska 99513-7567. During the public comment period, the proposed Consent Decree may also be examined on the following Department of Justice Web site: http://www.justice.gov/enrd/Consent_Decrees.html. A copy of the proposed Consent Decree may also be obtained by mail from the Consent Decree Library, P.O. Box 7611, U.S. Department of Justice, Washington, DC 20044-7611, or by faxing or e-mailing a request to Tonia Fleetwood (tonia.fleetwood@usdoj.gov), fax number (202) 514-0097, phone number (202) 514-1547. If requesting a copy by mail from the Consent Decree Library, please enclose a check in the amount of $16.50 ($0.25 per page reproduction cost) payable to the United States Treasury or, if requesting by e-mail or fax, forward the check in that amount to the Consent Decree Library at the address stated above.

Robert E. Maher, Jr.,
Assistant Section Chief, Environmental Enforcement Section, Environment and Natural Resources Division.

[FR Doc. 2011-6581 Filed 3-21-11; 8:45 am]

BILLING CODE 4410-15-P